UNIFIED CARRIER REGISTRATION PLAN

Sunshine Act Meetings

TIME AND DATE: April 4, 2024, 11 a.m. to 2 p.m., eastern time.

PLACE: The meeting will take place at the Hotel Indigo Savannah Historic District, 201 West Bay Street, Savannah, GA 31401. This meeting will also be accessible via conference call and via Zoom Meeting and Screenshare. Any interested person may call 1-929-205-6099 (US Toll) or 1-669-900-6833 (US Toll), Meeting ID: 972 4708 8227, to listen and participate in this meeting. The website to participate via Zoom Meeting and Screenshare is https://kellen.zoom.us/meeting/register/tJMvc-6opjMoGNO5RDEfdkyiWxp4Xm0F7YbF.

STATUS: This meeting will be open to the public.

MATTERS TO BE CONSIDERED: The Unified Carrier Registration Plan Board of Directors (the “Board”) will continue its work in developing and implementing the Unified Carrier Registration Plan and Agreement. The subject matter of this meeting will include:

Proposed Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed. The Board will consider action to adopt.

Ground Rules

➢ Board actions taken only in designated areas on the agenda

IV. Approval of Minutes of the February 29, 2024, UCR Board Meeting—UCR Board Chair

For Discussion and Possible Board Action

Draft Minutes from the February 29, 2024, UCR Board meeting will be reviewed. The Board will consider action to approve.

V. Report of FMCSA—FMCSA Representative

The Federal Motor Carrier Safety Administration (FMCSA) will provide a report on any relevant agency activity, including the status of the FMCSA's Notice of Proposed Rulemaking concerning the 2025 UCR Fee Rulemaking.

VI. Revolving Door Policy—UCR Board Member

For Discussion and Possible Board Action

UCR Board Member, Ryan Nance will lead a discussion regarding a proposal for a revolving door policy. The proposed policy will be reviewed. The Board may consider action to approve.

VII. UCR Legal Counsel Report—UCR Legal Counsel

For Discussion and Possible Board Action

UCR Legal Counsel will lead a discussion regarding a proposed procedure to amend the UCR Agreement. The proposed procedure will be reviewed. The Board may consider action to approve.

VIII. Amendments to the Existing UCR Plan Whistleblower Policy—UCR Legal Counsel and UCR Executive Director

For Discussion and Possible Board Action

UCR Legal Counsel and the UCR Executive Director will discuss amendments to the existing UCR Whistleblower Policy. The Board may take action to amend the existing UCR Whistleblower Policy.

IX. Subcommittee Reports

Audit Subcommittee—UCR Audit Subcommittee Chair, UCR Audit Subcommittee Vice-Chair

A. The Audit Subcommittee Recommends to the UCR Board the Adoption of an Auto-Renew Policy Developed for the Voluntary, Annual, Renewal of UCR Registrations—UCR Audit Subcommittee Chair, UCR Audit Subcommittee Vice-Chair, UCR Executive Director and SeikoSoft Representatives

For Discussion and Possible Subcommittee Action

The UCR Audit Subcommittee Chair, UCR Audit Subcommittee Vice-Chair, UCR Executive Director, and Seikosoft Representatives will summarize an Auto-renew Policy adopted by the Audit Subcommittee and recommended to the UCR Board. The summary will include a discussion of the language recommended by the Audit Subcommittee providing for an auto-renew policy for the voluntary, annual, automatic renewal of UCR Plan registrations and for SeikoSoft to incorporate the language and business rules of this auto-renew policy into the National Registration System. The Audit Subcommittee recommends that the UCR Board adopt an Auto-Renew policy containing specific language implementing a voluntary, annual, automatic renewal of UCR Plan registrations. The UCR Board may take action to adopt an Auto-Renew Policy.

B. Review States' Audit Compliance Snapshot for Registration Rates Audit Percentages for Years 2023 and 2024—UCR Audit Subcommittee Chair

The UCR Audit Subcommittee Chair will review audit compliance rates for the states for UCR Plan registration years 2023 and 2024, including related compliance percentages for FARs, registration motor carrier compliance percentages, unregistered motor carriers in tiers 5 and 6, retreat audits, and broker registration percentages. The Audit Subcommittee Chair will also describe recent efforts by the Audit Subcommittee to reinstitute a retreat audit program based on vehicle inspections.

Finance Subcommittee—UCR Finance Subcommittee Chair and UCR Depository Manager

A. Distribution From the UCR Depository for Under-Cap States—UCR Administrator

The UCR Finance Subcommittee Chair and the UCR Administrator will provide an update on the timing for a distribution of fees from the UCR Depository to states that have not yet reached their revenue entitlements for the 2024 registration year.

B. UCR Administrative Fund Update—UCR Administrator

The UCR Administrator will provide an update on the financial status of the administrative fund for the 2 months ended February 29, 2024.

Education and Training Subcommittee—UCR Education and Training Subcommittee Chair

A. Updates on Key Projects—UCR Education and Training Subcommittee Chair

The UCR Education and Training Subcommittee Chair will provide updates on key projects. The projects that will be discussed include the optimization and redesign of the website, the educational audit taskforce related to the learning management system, and the creation of a videos explaining the purpose of the UCR Plan and the National Registration System it operates.

Industry Advisory Subcommittee—UCR Industry Advisory Subcommittee Chair

No significant action to report.

Enforcement Subcommittee—UCR Enforcement Subcommittee Chair

No significant action to report.

Dispute Resolution Subcommittee—UCR Dispute Resolution Subcommittee Chair

No significant action to report.

X. Contractor Reports—UCR Board Chair

UCR Executive Director Report

The UCR Executive Director will provide a report covering his recent activity for the UCR Plan including any changes in the dates of UCR meetings in 2024.

UCR Administrator Report (Kellen)

The UCR Chief of Staff will provide a management update covering recent activity for the Depository, Operations, and Communications.

DSL Transportation Services, Inc.

DSL Transportation Services, Inc. will report on the latest data from the FARs program, Tier 5 and 6 unregistered motor carriers, and other matters.

Seikosoft

Seikosoft will provide an update on its recent/new activity related to the UCR's National Registration System.

XI. Other Business—UCR Board Chair

The UCR Board Chair will call for any other business, old or new, from the floor.

XII. Adjournment—UCR Board Chair

The UCR Board Chair will adjourn the meeting.

The agenda will be available no later than 6:00 p.m. Eastern time, March 27, 2024, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2024-07178 Filed 4-1-24; 4:15 pm]

BILLING CODE 4910-YL-P